SURFACE TRANSPORTATION BOARD

[Docket No. AB 55 (Sub-No. 761X)]

CSX Transportation, Inc.—Discontinuance of Service Exemption—in Boone County,W. Va.

CSX Transportation, Inc. (CSXT), filed a verified notice of exemption under 49 CFR part 1152 subpart F—Exempt Abandonments and Discontinuances of Service to discontinue service over an approximately 9.1-mile rail line on its Southern Region, Florence Division, West Fork Subdivision, between milepost CLJ 0.0 and milepost CLJ 9.1, in Boone County, W. Va. (the Line). The Line traverse U.S. Postal Service Zip Codes 25093 and 25204, and includes the stations of (1) Van at milepost CLJ 0.0 (FSAC 82043/OPSL 65290), (2) Marnie at milepost CLJ 4.0 (FSAC 82049/OPSL 65320), and (3) Robin Hood at milepost CLJ 8.0 (FSAC 82047/OPSL 65325).

CSXT has certified that: (1) No local freight traffic has moved over the Line for at least two years; (2) there is no overhead traffic on the Line; (3) no formal complaint filed by a user of rail service on the Line (or by a state or local government entity acting on behalf of such user) regarding cessation of service over the Line is pending either with the Surface Transportation Board or any U.S. District Court or has been decided in favor of a complainant within the two-year period; and (4) the requirements at 49 CFR 1105.12 (newspaper publication) and 49 CFR 1152.50(d)(1) (notice to governmental agencies) have been met.

As a condition to this exemption, any employee adversely affected by the discontinuance of service shall be protected under Oregon Short Line Railroad—Abandonment Portion Goshen Branch Between Firth & Ammon, in Bingham & Bonneville Counties, Idaho, 360 I.C.C. 91 (1979). To address whether this condition adequately protects affected employees, a petition for partial revocation under 49 U.S.C. 10502(d) must be filed.

Provided no formal expression of intent to file an offer of financial assistance (OFA) to subsidize continued rail service has been received, this exemption will become effective on September 9, 2016.¹ unless stayed pending reconsideration. Petitions to stay that do not involve environmental issues and formal expressions of intent to file an OFA to subsidize continued rail service under 49 CFR 1152.27(c)(2) ² must be filed by August 22, 2016.³ Petitions to reopen must be filed by August 30, 2016, with the Surface Transportation Board, 395 E Street SW., Washington, DC 20423-0001.

¹ Pursuant to 49 CFR 1152.50(d)(2), the railroad must file a verified notice with the Board at least 50 days before an abandonment or discontinuance is to be consummated. CSXT has indicated a proposed consummation date of August 31, 2016, but, because the verified notice was filed on July 21, 2016, the earliest this transaction may be consummated is September 9, 2016.

² Each OFA must be accompanied by the filing fee, which is currently set at $1,600. See 49 CFR 1002.2(f)(25).

³ Because this is a discontinuance proceeding and not an abandonment, interim trail use/rail banking and public use conditions are not appropriate. Because there will be an environmental review during abandonment, this discontinuance does not require an environmental review.

A copy of any petition filed with the Board should be sent to CSXT's representative: Louis E. Gitomer, Law Offices of Louis E. Gitomer, LLC, 600 Baltimore Avenue, Suite 301, Towson, MD 21204.

If the verified notice contains false or misleading information, the exemption is void ab initio.

Board decisions and notices are available on our Web site at “WWW.STB.DOT.GOV.”

Decided: August 5, 2016.
By the Board, Joseph H. Dettmar, Acting Director, Office of Proceedings.
Kenyatta Clay,
Clearance Clerk.

[FR Doc. 2016-18981 Filed 8-9-16; 8:45 am]

BILLING CODE 4915-01-P